NUCLEAR REGULATORY COMMISSION

Sunshine Act Meeting

Agency Holding the Meeting: Nuclear Regulatory Commission.

Date: Weeks of January 19, 26; February 2, 9, 16, 23, 2004.

Place: Commissioners' Conference Room, 11555 Rockville Pike, Rockville, Maryland.

Status: Public and Closed.

Matters to be Considered:

Week of January 19, 2004

Wednesday, January 21, 2004

1:30 p.m.—Discussion of Security Issues (Closed—Ex. 1)

Friday, January 23, 2004

1:30 p.m.—Meeting with FERC to Discuss Security Issues (closed—Ex. 1)

Week of January 26, 2004—Tentative

There are no meetings scheduled for the Week of January 26, 2004.

Week of February 2, 2004—Tentative

There are no meetings scheduled for the Week of February 2, 2004.

Week of February 9, 2004—Tentative

There are no meetings scheduled for the Week of February 9, 2004.

Week of February 16, 2004—Tentative

Wednesday, February 18, 2004

9:30 a.m.—Briefing on Status of Office of Chief Financial Officer Programs, Performance, and Plans (Public Meeting) (Contact: Edward L. New, 301-415-5646)

This meeting will be webcast live at the Web address— www.nrc.gov.

Week of February 23, 2004—Tentative

Tuesday, February 24, 2004

9:30 a.m.—Meeting with UK Regulators to Discuss Security Issues (Closed—Ex. 1)

Wednesday, February 25, 2004

9:30 a.m.—Discussion of Security Issues (Closed—Ex. 1)

* The schedule for Commission meetings is subject to change on short notice. To verify the status of meetings call (recording)—(301) 415-1292. Contact person for more information: Timothy J. Frye, (301) 415-1651.

* * * * *

Additional Information: By a vote of 3-0 on January 13, the Commission determined pursuant to U.S.C. 552b(e) and § 9.107(a) of the Commission's rules that “Affirmation of SECY-03-0225 (Sequoyah Fuels Corp; Cherokee Nation's Petition for Review of LBP-03-24)” be held on January 14, and on less than one week's notice to the public.

* * * * *

The NRC Commission Meeting Schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 15, 2004.
Timothy J. Frye,
Technical Coordinator, Office of the Secretary.

[FR Doc. 04-1317 Filed 1-16-04; 11:17 am]

BILLING CODE 7590-01-M